DEPARTMENT OF ENERGY

Federal Energy Regulatory Commission

Combined Notice of Filings #1

Take notice that the Commission received the following electric rate filings:

Docket Numbers: ER15-1641-003.

Applicants: Dynegy Fayette II, LLC.

Description: Report Filing: Refund Report—Dynegy Fayette II to be effective N/A.

Filed Date: 1/21/20.

Accession Number: 20200121-5160.

Comments Due: 5 p.m. ET 2/11/20.

Docket Numbers: ER15-1642-003.

Applicants: Dynegy Hanging Rock II, LLC.

Description: Report Filing: Refund Report—Dynegy Hanging Rock II to be effective N/A.

Filed Date: 1/21/20.

Accession Number: 20200121-5161.

Comments Due: 5 p.m. ET 2/11/20.

Docket Numbers: ER15-1648-003.

Applicants: Dynegy Washington II, LLC.

Description: Report Filing: Refund Report—Dynegy Washington II to be effective N/A.

Filed Date: 1/21/20.

Accession Number: 20200121-5165.

Comments Due: 5 p.m. ET 2/11/20.

Docket Numbers: ER18-452-001.

Applicants: Liberty Electric Power, LLC.

Description: Report Filing: Refund Report—Liberty Electric Power to be effective N/A.

Filed Date: 1/21/20.

Accession Number: 20200121-5163.

Comments Due: 5 p.m. ET 2/11/20.

Docket Numbers: ER18-453-001.

Applicants: Ontelaunee Power Operating Company, LLC.

Description: Report Filing: Refund Report—Ontelaunee Power Operating Co. to be effective N/A.

Filed Date: 1/21/20.

Accession Number: 20200121-5164.

Comments Due: 5 p.m. ET 2/11/20.

Docket Numbers: ER19-465-003.

Applicants: Midcontinent Independent System Operator, Inc.

Description: Compliance filing: 2020-01-21_Compliance filing for Order 841 ESR to be effective 12/31/9998.

Filed Date: 1/21/20.

Accession Number: 20200121-5104.

Comments Due: 5 p.m. ET 2/11/20.

Docket Numbers: ER19-468-002.

Applicants: California Independent System Operator Corporation.

Description: Compliance filing: 2020-01-21 Order No. 841 Compliance Filing to be effective 12/3/2019.

Filed Date: 1/21/20.

Accession Number: 20200121-5095.

Comments Due: 5 p.m. ET 2/11/20.

Docket Numbers: ER19-878-001.

Applicants: Enel Green Power Hilltopper Wind, LLC.

Description: Report Filing: Refund Report Filing to be effective N/A.

Filed Date: 1/22/20.

Accession Number: 20200122-5009.

Comments Due: 5 p.m. ET 2/12/20.

Docket Numbers: ER19-1924-001.

Applicants: Cheyenne Light, Fuel and Power Company.

Description: Compliance filing: Compliance Filing to Order No. 845 Compliance Filing-Amendments to OATT to be effective 5/22/2019.

Filed Date: 1/22/20.

Accession Number: 20200122-5011.

Comments Due: 5 p.m. ET 2/12/20.

Docket Numbers: ER19-1925-001.

Applicants: Black Hills Colorado Electric, LLC.

Description: Compliance filing: Compliance Filing to Order No. 845 Compliance Filing-Amendments to OATT to be effective 5/22/2019.

Filed Date: 1/21/20.

Accession Number: 20200121-5149.

Comments Due: 5 p.m. ET 2/11/20.

Docket Numbers: ER19-1926-001.

Applicants: Black Hills Power, Inc.

Description: Compliance filing: Compliance Filing to Order No. 845 Compliance Filing-Amendments to OATT to be effective 5/22/2019.

Filed Date: 1/22/20.

Accession Number: 20200122-5038.

Comments Due: 5 p.m. ET 2/12/20.

Docket Numbers: ER19-1927-002.

Applicants: Portland General Electric Company.

Description: Compliance filing: Order 845 Compliance Filing to be effective 5/22/2019.

Filed Date: 1/21/20.

Accession Number: 20200121-5143.

Comments Due: 5 p.m. ET 2/11/20.

Docket Numbers: ER20-170-001.

Applicants: Midcontinent Independent System Operator, Inc.

Description: Tariff Amendment: 2020-01-21_Deficiency Resp. to Schedule 50 for Cost Recovery of Oper. and Main. to be effective 1/1/2020.

Filed Date: 1/21/20.

Accession Number: 20200121-5119.

Comments Due: 5 p.m. ET 2/11/20.

.

Docket Numbers: ER20-286-001.

Applicants: Puget Sound Energy, Inc.

Description: Tariff Amendment: Columbia Grid Deficiency Filing to be effective 4/2/2020.

Filed Date: 1/22/20.

Accession Number: 20200122-5000.

Comments Due: 5 p.m. ET 2/12/20.

Docket Numbers: ER20-336-001.

Applicants: Jersey Central Power & Light Company, PJM Interconnection, L.L.C.

Description: Compliance filing: JCP&L submits Compliance Filing in ER20-336 re: IA SA No. 4920 to be effective 1/6/2020.

Filed Date: 1/22/20.

Accession Number: 20200122-5063.

Comments Due: 5 p.m. ET 2/12/20.

Docket Numbers: ER20-512-000.

Applicants: Click Energy LLC.

Description: Supplement to December 4, 2019 Click Energy LLC tariff filing.

Filed Date: 1/14/20.

Accession Number: 20200114-5219.

Comments Due: 5 p.m. ET 1/27/20.

Docket Numbers: ER20-822-000.

Applicants: AEP Generation Resources Inc.

Description: Petition for Waiver, et al. of American Electric Power Service Corporation, on behalf of AEP Generation Resources Inc.

Filed Date: 1/15/20.

Accession Number: 20200115-5169.

Comments Due: 5 p.m. ET 1/27/20.

Docket Numbers: ER20-853-000.

Applicants: Pacific Gas and Electric Company.

Description: Request for One-Time Limited Tariff Waiver, et al. of Pacific Gas and Electric Company.

Filed Date: 1/17/20.

Accession Number: 20200117-5241.

Comments Due: 5 p.m. ET 1/27/20.

Docket Numbers: ER20-859-000.

Applicants: Outlaw Wind Project, LLC.

Description: Baseline eTariff Filing: Baseline tariff to be effective 3/22/2020.

Filed Date: 1/22/20.

Accession Number: 20200122-5053.

Comments Due: 5 p.m. ET 2/12/20.

Docket Numbers: ER20-860-000.

Applicants: Green River Wind Farm Phase 1, LLC.

Description: Baseline eTariff Filing: Rate Schedule FERC No. 2—Reactive Power Compensation to be effective 3/22/2020.

Filed Date: 1/22/20.

Accession Number: 20200122-5066.

Comments Due: 5 p.m. ET 2/12/20.

Docket Numbers: ER20-861-000.

Applicants: PJM Interconnection, L.L.C.

Description: § 205(d) Rate Filing: Assignment of WMPAs Nos. 4916, 4911, 4918, 4953; Q#AC2-070, AC2-071, AC2-072, AC2-074 to be effective 1/26/2018.

Filed Date: 1/22/20.

Accession Number: 20200122-5069.

Comments Due: 5 p.m. ET 2/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2020.
Nathaniel J. Davis, Sr.,
Deputy Secretary.

[FR Doc. 2020-01447 Filed 1-27-20; 8:45 am]

BILLING CODE 6717-01-P